DEPARTMENT OF EDUCATION

[Docket ID ED-2024-FSA-0099]

Request for Information (RFI) Regarding Ways To Support the Successful Completion and Submission of the 2025-2026 FAFSA Form

AGENCY: Federal Student Aid, U.S. Department of Education.

ACTION: Request for information.

SUMMARY: The U.S. Department of Education (Department) requests information in the form of written comments that include feedback on ways to improve the “help text” of the 2025-2026 FAFSA form, as well as for the development of supporting materials including student and contributor tip sheets, counselor guides, or other direct communication tools to ensure applicants and contributors can successfully complete and submit the 2025-2026 Free Application for Federal Student Aid (FAFSA®) form. The Department also seeks feedback from financial aid administrators, counselors, and other members of the public on ways the Department can provide additional support to ensure applicants and contributors complete the FAFSA, and institutions of higher education and State grant agencies have support for the processing and packaging of student aid. Based on the suggestions submitted in response to this notice, the Secretary will consider changes to the 2025-2026 FAFSA supporting materials and develop a new Better FAFSA Better Future Roadmap (the Roadmap) that will outline the new tools the Department is making available, such as additional trainings, webinars, counselor guides, and student and contributor tip sheets.

DATES: Suggestions and comments must be submitted no later than September 13, 2024 to ensure their consideration.

ADDRESSES: Comments must be submitted via the Federal eRulemaking Portal at www.regulations.gov. However, if you require an accommodation or cannot otherwise submit your comments via regulations.gov, please contact the program contact person listed below under FOR FURTHER INFORMATION CONTACT. The Department will not accept comments by fax or by email, or comments submitted after the comment period closes. To ensure that the Department does not receive duplicate copies, please submit your comments only once. Additionally, please include the Docket ID at the top of your comments.

The Department strongly encourages you to submit any comments or attachments in Microsoft Word format. If you must submit a comment in Adobe Portable Document Format (PDF), the Department strongly encourages you to convert the PDF to “print-to-PDF” format, or to use some other commonly used searchable text format. Please do not submit the PDF in a scanned format. Using a print-to-PDF format allows the Department to electronically search and copy certain portions of your submissions to assist in the 2025-26 FAFSA development process.

Federal eRulemaking Portal: Please go to www.regulations.gov to submit your comments electronically. Information on using regulations.gov, including instructions for finding a rule on the site and submitting comments, is available on the site under “FAQ.”

Privacy Note: The Department's policy is to generally make comments received from members of the public available for public viewing on the Federal eRulemaking Portal at www.regulations.gov. Therefore, commenters should include in their comments only information about themselves that they wish to make publicly available. Commenters should not include in their comments any information that identifies other individuals or that permits readers to identify other individuals. The Department will not make comments that contain personally identifiable information (PII) about someone other than the commenter publicly available on www.regulations.gov for privacy reasons. This may include comments where the commenter refers to a third-party individual without using their name if the Department determines that the comment provides enough detail that could allow one or more readers to link the information to the third party. If your comment refers to a third-party individual, to help ensure that your comment is posted, please consider submitting your comment anonymously to reduce the chance that information in your comment about a third party could be linked to the third party. The Department will also not make comments that contain threats of harm to another person or to oneself available on www.regulations.gov.

Accessible Format: Individuals with disabilities can obtain this document in an accessible format (e.g., braille, large print, audiotape, or compact disc) on request to the program contact person listed under FOR FURTHER INFORMATION CONTACT.

FOR FURTHER INFORMATION CONTACT: Melanie Storey, Director, Policy Implementation and Oversight, U.S. Department of Education, Federal Student Aid. Telephone: (202) 377-3608. Email at: fafsasimplification@ed.gov.

If you are deaf, hard of hearing, or have a speech disability and wish to access telecommunications relay services, please dial 7-1-1.

SUPPLEMENTARY INFORMATION: The 2024-2025 FAFSA cycle was the culmination of extraordinary changes to law and the entire FAFSA process. The passage of two bipartisan pieces of legislation—the 2019 Fostering Undergraduate Talent by Unlocking Resources for Education (FUTURE) Act and 2020 FAFSA Simplification Act—resulted in the retirement and rebuilding of more than 20 technological systems within the agency, new Federal student aid eligibility formulas, a new data exchange that pulls tax data directly from the Internal Revenue Service into the FAFSA, and many other new requirements and innovations.

The expansive scope, development process, and timeline of simplifying the 2024-25 FAFSA has been challenging for students, families, counselors, institutions, States, and organizations that support them. To minimize disruptions and ensure a smooth experience for students, families, and institutions, the Department will not be making major changes to the 2025-26 FAFSA form, including to the question flow, data collected to make eligibility determinations, and the ISIR layout.

The Department recognizes that for every student who qualifies for Federal financial aid to have the opportunity to successfully complete the FAFSA, our partners will need effective tools and resources for both student and contributor outreach, ISIR processing, and packaging of Federal student aid. While the Department will not make substantive changes to the structure of the form in 2025-26, the Department will continue to develop tools and resources for students and families, and those that support them, including counselors and financial aid administrators, to ensure a successful 2025-26 FAFSA cycle.

With the support of institutions of higher education, K-12 schools and local educational agencies, State agencies, and college access and community organizations, more than 13 million students have submitted a 2024-25 FAFSA to date. Partner feedback and support have also contributed to improvements that have reduced error rates since the launch of the form. In our continued work with our partners, through this Request for Information (RFI), the Department solicits specific feedback on ways to improve supporting materials, including help text on the form, the creation of student and contributor tip sheets and tools, and other direct communication to ensure students and their contributors can successfully complete the 2025-26 FAFSA. The Department also seeks feedback from financial aid administrators, K-12 and postsecondary counselors, State and local educational agencies, and others on ways the Department can provide additional support to them in their work.

In conjunction with the feedback from this RFI and a series of listening sessions that the Department is conducting, the Department is developing a new Better FAFSA Better Future Roadmap. The Roadmap will outline new tools the Department is making available such as additional trainings, webinars, counselor guides, and student and contributor tip sheets.

The Department particularly seeks answers to the following questions related to FAFSA completion and aid processing:

Student and Contributor Resources

1. What informational resources or tools from the Department would most help students, families, and those who work with them better understand and navigate the FAFSA form?

2. What is the most effective way for the Department to communicate with students and contributors (e.g., direct emails and text messages where contact information is available, social media) about the steps and actions to take to complete the FAFSA?

3. What specific questions on the FAFSA form need additional help or guidance (e.g., revised help text, videos, tip sheets) for students or contributors to successfully complete the form?

4. What specific populations, if any, would benefit most from additional support materials, such as tip sheets? What are the best ways to communicate this additional support to these populations?

Institutions of Higher Education, K-12, State Grant Agencies, Advisors, and Other Support Organizations

1. What types of student or contributor support initiatives have you or your institution, school or school district, agency, or organization found to be most effective in supporting students and contributors to complete the FAFSA? What types of informational resources could the Department create to increase the impact of these activities?

2. What informational resources (e.g., tip sheets, webinars, instructional videos) would be helpful for financial aid administrators at institutions and State grant agencies? Are there specific topics related to the FAFSA that could benefit from additional support from the Department (e.g., packaging aid)?

3. What specific resources or tools would support counselors (K-12 and higher education), college access organizations, and other student support professionals to help increase rates of FAFSA completion?

The Department encourages comments from institutions of higher education, schools and school districts (including school and district leaders), State educational agencies, State higher education agencies, school counselors and college advisors, college access organizations, student support professionals, students and their families, stakeholders within the education community, and other members of the public.

This is a request for information only. This RFI is not a request for proposals (RFP) or a promise to make significant changes or adjustments to the FAFSA form. This RFI does not commit the Department to contract for any supply or service whatsoever. We are not seeking proposals and will not accept unsolicited proposals. The Department will not pay for any information or administrative costs that you may incur in responding to this RFI. The documents and information submitted in response to this RFI becomes the property of the U.S. Government and will not be returned.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

James Kvaal,
Under Secretary, U.S. Department of Education.

[FR Doc. 2024-18115 Filed 8-13-24; 8:45 am]

BILLING CODE 4000-01-P